DEPARTMENT OF STATE

[Public Notice #3520]

Secretary of State's Advisory Committee on Private International Law Renewal

The Department of State has renewed the Charter of the Secretary of State's Advisory Committee on Private International Law (ACPIL). The Under Secretary for Management has determined that ACPIL is necessary and in the public interest.

ACPIL will continue to assist the Department to coordinate effective United States participation in international efforts to unify private law between nations. ACPIL enables the Department to obtain the expert and considered views of private sector interests most knowledgeable of, as well as most affected by, international activities in this field.

ACPIL consists of members of private sector organizations, bar associations, national legal organizations, and federal and state government agency and judicial interests concerned with private international law. ACPIL will follow the procedures prescribed by the Federal Advisory Committee Act (FACA) (Pub. L. 92-463). Meetings will be open to the public unless a determination is made in accordance with Section 10(d) of the FACA, 5 U.S.C. 552b(c)(1) and (4), that a meeting or a portion of the meeting should be closed to the public.

For more information, please contact Harold Burman, Executive Director ACPIL, Office of the Legal Adviser, 2430 E Street, NW, South Bldg., Suite 203, Washington, DC 20037-2851, phone 202 776-8420.

Jeffrey D. Kovar,
Assistant Legal Adviser for Private International Law, Department of State.

[FR Doc. 01-353 Filed 1-4-01; 8:45 am]

BILLING CODE 4710-08-U